DEPARTMENT OF AGRICULTURE

Submission for OMB Review; Comment Request

July 12, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: National Animal ID System; Information Requirements for Animal ID Number Tag Manufacturers, Managers, and Resellers.

OMB Control Number: 0579-0283.

Summary of Collection: The U.S. Department of Agriculture (USDA) initiated implementation of the National Animal Identification System (NAIS) in 2004. NAIS is a cooperative State-Federal-industry partnership to standardize and expand animal identification programs and practices to all livestock species and poultry. The first priority of NAIS is to identify locations that hold and manage livestock with the nationally unique, 7-character Premises Identification Number (PIN). States and Tribes administer premises registration. Once producers have registered their premises, they may obtain official identification devices that are encoded or imprinted with an animal identification number (AIN). As producers acquire AIN devices, a NAIS record will be created, linking the devices to the receiving premises. USDA is implementing the AIN Management System—a Web-based system that administers AINs. Animal health officials will have critical information needed during a disease traceback to determine the origin of an animal or where it was first tagged.

Need and Use of the Information: In order to develop and implement an effective national animal identification system, USDA needs to be able to identify animals using compatible, uniform technology and information standards. The AIN Management System, AIN Tag Manufacturer agreements, and having approved AIN Tags, Managers and Resellers will ensure that the animal identification information is gathered, collected, and maintained in an effective, uniform system. Without this animal identification component, an effective NAIS would be impossible, and without the national system, animal disease outbreaks will be more difficult to trace and contain.

Description of Respondents: State, local or tribal government; business or other for-profit.

Number of Respondents: 2,125.

Frequency of Responses: Recordkeeping; Reporting: On occasion.

Total Burden Hours: 3,053.

Animal and Plant Health Inspection Service

Title: National Animal Identification System; Information Requirements for State, Tribal, and Private Animal Tracking Database Owner.

OMB Control Number: 0579-0288.

Summary of Collection: The National Animal Identification System (NAIS) is a cooperative State-Federal-industry partnership to standardize and expand animal identification programs and practices to all livestock species and poultry. NAIS is comprised of three key components: Premises registration, animal identification and animal tracking. The long-term goal of the NAIS is to provide animal health officials with the capability to identify all livestock and premises that have had direct contact with a disease of concern within 48 hours after discovery. NAIS is currently a voluntary program.

Need and Use of the Information: In order to develop and implement an effective national animal identification system, USDA needs to be able to access animal tracking information in cases of animal health events. The animal-tracking component will help USDA conduct efficient and effective trace backs and trace forwards. Without this animal-tracking component, an effective NAIS would be impossible, and without this national system, animal disease outbreaks (whether naturally occurring or the result of an act of terrorism) will be more difficult to trace and contain. The longer the trace-back takes, the greater the spread of the disease that in turns increases the economic losses. Organizations that wish to participate in the animal tracking phase must complete the “Request for Evaluation of Interim Private/State Animal Tracking Database” to initiate an APHIS review of its animal tracking database.

Description of Respondents: State, local or tribal government; business or other for-profit.

Number of Respondents: 30.

Frequency of Responses: Reporting: On occasion.

Total Burden Hours: 210.

Ruth Brown,
Departmental Information Collection Clearance Officer.

[FR Doc. E6-11305 Filed 7-17-06; 8:45 am]

BILLING CODE 3410-34-P